DEPARTMENT OF AGRICULTURE

Natural Resources Conservation Service

Information Collection; Paperwork Reduction Act of 1995

AGENCY: Natural Resources Conservation Service (NRCS).

ACTION: Notice to reinstate a previously approved information collection for review and comment.

SUMMARY: In accordance with the Paperwork Reduction Act of 1995, this notice announces the Natural Resources Conservation Service's intention to reinstate a previously approved information collection. The collected information will help the Natural Resources Conservation Service match the skills of individuals applying for volunteer work who will further the agency's mission. Information will be collected from potential volunteers who are 14 years of age or older.

EFFECTIVE DATES: Comments will be received for a 60-day period commencing with the date of this publication.

FOR FURTHER INFORMATION, CONTACT: Michele Eginoire, National Volunteer Coordinator; fax (515) 289-1227; telephone: (515) 289-0325, extension 29; e-mail: eginoire@swcs.org.

SUPPLEMENTARY INFORMATION: Collection of this information is necessary to document service of volunteers as required by FPM Supplement 296-33, Subchapter 3. Agencies are authorized to recruit, train, and accept, with regard to civil service classification laws, rules or regulations, the services of individuals to serve without compensation. Volunteers may assist in any agency program/project, and may perform any activities which agency employees are allowed to do. Volunteers must be at least 14 years of age.

Persons interested in volunteering will have to write, call, e-mail, or visit a Natural Resources Conservation Service Office. The forms will be available electronically, and can be completed electronically.

Description of Information Collection: The NRCS-PERS-002, Volunteer Interest and Placement Summary, is an optional form that assists the volunteer supervisor in placing the volunteer in a position that will benefit both the agency and the volunteer. The form is placed in a volunteer case file, and will be destroyed three years after the volunteer has completed service. In the event that the volunteer is injured, the case file will be transferred to the Official Personnel Folder.

Signed in Washington, DC, on December 18, 2002.
Bruce I. Knight,
Chief, Natural Resources Conservation Service.

[FR Doc. 02-32671 Filed 12-26-02; 8:45 am]

BILLING CODE 3410-16-P